DEPARTMENT OF AGRICULTURE

Rural Housing Service

Announcement of the Availability of Disaster Relief Act 2019 Grant Funds for Community Facilities

AGENCY: Rural Housing Service, USDA.

ACTION: Notice of funds availability.

SUMMARY: As part of the Additional Supplemental Appropriations for Disaster Relief Act, 2019, the Rural Housing Service's Community Facilities Program (CF) received supplemental grant funding available for necessary expenses related to the consequences of Hurricanes Michael and Florence and wildfires occurring in calendar year 2018, tornadoes and floods occurring in calendar year 2019, and other natural disasters, to remain available until expended. The authority for the Agency to administer the Community Facilities Grant Program is provided in the Consolidated Farm and Rural Development Act (CONAct). The grant funds will be administered in accordance with this notice of funds availability.

DATES: Applications will be accepted on a continual basis, beginning on the publication date of this Notice, until funds are exhausted.

ADDRESSES: Applications will be submitted to a processing office as designated by the USDA Rural Development State Office in the state where the applicant's project is located. Agency state office contact information is available at https://www.rd.usda.gov/about-rd/offices/state-offices.

FOR FURTHER INFORMATION CONTACT: Karla Peiffer, USDA Rural Development, Community Facilities Program at (515) 238-6668 or via email at karla.peiffer@usda.gov.

SUPPLEMENTARY INFORMATION:

Language for Funding Opportunities

The Agency encourages applications that will help improve life in rural America. See information on the Interagency Task Force on Agriculture and Rural Prosperity found at www.usda.gov/ruralprosperity. Applicants are encouraged to consider projects that provide measurable results in helping rural communities build robust and sustainable economies through strategic investments in infrastructure, partnerships and innovation.

Key strategies include:

• Achieving e-Connectivity for Rural America

• Developing the Rural Economy

• Harnessing Technological Innovation

• Supporting a Rural Workforce

• Improving Quality of Life

To leverage investments in rural property, the Agency also encourages projects located in rural Opportunity Zones where projects should provide measurable results in helping communities build robust and sustainable economies. An Opportunity Zone is an economically-distressed community where new investments, under certain conditions, may be eligible for preferential tax treatment. Localities qualify as Opportunity Zones if they have been nominated for that designation by the state and that nomination has been certified by the Secretary of the U.S. Treasury via his delegation of authority to the Internal Revenue Service.

To combat a key threat to economic prosperity, rural workforce and quality of life, the Agency also encourages applications that will support the Administration's goal to reduce the morbidity and mortality associated with Substance Use Disorder (including opioid misuse) in high-risk rural communities by strengthening the capacity to address prevention, treatment and/or recovery at the community, county, state, and/or regional levels:

Key strategies include:

• Prevention: Reducing the occurrence of Substance Use Disorder (including opioid misuse) and fatal substance-related overdoses through community and provider education and harm reduction measures such as the strategic placement of overdose reversing devices, such as naloxone;

• Treatment: Implementing or expanding access to evidence-based treatment practices for Substance Use Disorder (including opioid misuse) such as medication-assisted treatment (MAT); and

• Recovery: Expanding peer recovery and treatment options that help people start and stay in recovery.

To focus investments in areas with the largest opportunity for growth in prosperity, the Agency encourages applications that serve the smallest communities with the lowest incomes, with an emphasis on areas where at least 20 percent of the population is living in poverty, according to the American Community Survey data by census tracts (or Reservation boundary for Indian tribes).

Paperwork Reduction Act

In accordance with the Paperwork Reduction Act of 1995, the information collection requirements associated with the CF Program, as covered in this Notice, have been approved by the Office of Management Budget (OMB) under OMB Control Number 0575-0173.

Overview

Federal Agency Name: Rural Housing Service (“RHS,” an Agency of USDA in the Rural Development mission area).

Solicitation Opportunity Title: Announcement of the Availability of Disaster Relief Act 2019 Grant Funds for Community Facilities.

Announcement Type: Notice of Funds Availability.

Catalog of Federal Domestic Assistance (CFDA) Number: 10.766.

Dates: Applications will be accepted on a continual basis, beginning on the publication date of this Notice, until funds are exhausted.

A. Program Description

This program is designed to provide supplemental grant funding for eligible CF applicants and eligible CF projects related to the consequences of Hurricanes Michael and Florence and wildfires occurring in calendar year 2018, tornadoes and floods occurring in calendar year 2019, and other natural disasters.

Details on eligible CF applicants and eligible CF projects may be found in Section C. Eligibility Information below.

The applicable Statutory or Regulatory authorities for this action are incorporated by reference and include the following:

• Additional Supplemental Appropriations for Disaster Relief Act, 2019, Public Law 116-20, dated June 6, 2019, Rural Development Rural Community Facilities Program Account.

• 7 U.S.C. 1926(a)(19), The Consolidated Farm and Rural Development Act.

• 2 CFR parts 200 and 400, uniform Federal grant awards regulations.

• 7 CFR 3570, subpart B, Community Facilities Grant Program regulations.

B. Federal Award Description—Disaster Relief Act 2019

The Additional Supplemental Appropriations for Disaster Relief Act, 2019, Public Law 116-20, dated June 6, 2019, provides the Rural Housing Service's CF Program $150,000,000 in supplemental grant funding of which $150,000,000 is available for eligible CF applicants and eligible CF projects related to the consequences of Hurricanes Michael and Florence and wildfires occurring in calendar year 2018, tornadoes and floods occurring in calendar year 2019, and other natural disasters.

Funds will be allocated to the USDA Rural Development State Offices with a disaster(s) identified in the Disaster Relief Act 2019. The allocation of funds will be based on an adaption of 7 CFR 1940, subpart L, Methodology and Formulas for Allocation of Loan and Grant Program Funds.

C. Eligibility Information

1. Applicant eligibility. An eligible CF applicant must:

(i) Be one of the types of entities outlined in 7 CFR 3570.61(a);

(ii) Be unable to finance the proposed project from its own resources, or through commercial credit as outlined in 7 CFR 3570.61(c); and

(iii) Have the legal authority and responsibility to own, construct, operate, and maintain the proposed facility as outlined in 7 CFR 3570.61(e).

2. Project Eligibility. An eligible CF project must:

(i) Be an eligible facility as outlined in 7 CFR 3570.61(b);

(ii) Be financially feasible as outlined in 7 CFR 3570.61(d); and

(iii) Be for public use as outlined in 7 CFR 3570.61(f).

3. Eligible use of grant funds.

(i) Grant funds may be used for purposes outlined in 7 CFR 3570.62;

(ii) Grant funds may not be used for purposes outlined in 7 CFR 3570.63(a); and

(iii) The project expenses do not need to be in direct relationship or a result of an eligible Disaster Relief Act 2019 disaster.

4. Project Location Eligibility. To be eligible for CF grant funds under this Notice:

(i) The eligible CF project must be located in a rural area in a county (or a rural area of a Reservation for Indian tribes) with a Major Disaster Declaration as declared by the President of the United States;

(ii) The Major Disaster Declaration must be related to the consequences of Hurricanes Michael and Florence and wildfires occurring in calendar year 2018, tornadoes and floods occurring in calendar year 2019, and other natural disasters.

(iii) The Federal Emergency Management Agency (FEMA) must have provided a notice declaring the Major Disaster Declaration and assigned a FEMA disaster recovery (DR) number.

The term rural or rural area is defined in section 343(a)(13)(C) of the CONAct (7 U.S.C. 1991(a)(13)) as a city, town or, unincorporated area that has a population of not more than 20,000 inhabitants. The boundaries for unincorporated areas in determining populations will be based on the Census Designated Places(s)(CDP). Data from the most recent decennial census of the United States will be used in determining population. Any rural community impacted by a major declared disaster DR-4407 may have the governor in the affected state, or the governor's designee, certify the area's population as a rural area with respect to eligibility for loans, grants, and technical assistance under rural development programs funded by the Department of Agriculture until data from the 2020 United States Census is available. The certification will be provided to the Rural Development State Director of California.

For information on determining if a project is located in an area with a Major Disaster Declaration, go to the Community Facilities section of the Rural Development Disaster Assistance site located at: https://www.rd.usda.gov/programs-services/services/rural-development-disaster-assistance.

5. Eligible grant amounts. Grant assistance will be provided on a graduated scale with smaller communities with the lowest median household income being eligible for a higher proportion of grant funds. Grant funds will be limited to:

(i) The percentages of eligible projects costs outlined in 7 CFR 3570.63(b); and

(ii) The maximum grant assistance allowed in accordance with 7 CFR 3570.66.

D. Application and Submission Information

The requirements for submitting an application can be found at 7 CFR 3570.65. Applications will be processed in the processing office designated by the USDA Rural Development State Office in the state where the applicant's project is located. Agency state office contact information is available at https://www.rd.usda.gov/about-rd/offices/state-offices. Applications will be accepted on a rolling basis until funds are exhausted.

E. Application Review Information

Applications will be reviewed in accordance with 7 CFR 3570.71 (a)-(d) and scored on a priority basis in accordance with 7 CFR 3570.67. If at anytime the demand for grant funds is greater than the amount of grant funds available, a priority ranking scoring system will be used to determine which projects are funded.

F. Federal Award Information

Applicants selected for funding will be provided a Letter of Conditions. Upon acceptance of the conditions, the applicant will sign and return to the processing office Forms RD 1942-46, “Letter of Intent to Meet Conditions,” and RD 1940-1, “Request for Obligation of Funds.” The grant is approved on the date an Agency signed copy of Form RD 1940-1, “Request for Obligation of Funds,” is mailed to the applicant.

Prior to the disbursement of grant funds, applicants approved for funding will be required to sign an Agency approved Grant Agreement, meet any pre-disbursement conditions outlined in the Letter of Conditions, and meet the applicable Statutory or Regulatory authority for this action listed in Section A. Program Description.

In the event the application is not approved, the applicant will be notified in writing of the reasons for rejection and provided applicable review and appeal rights in accordance with 7 CFR part 11.

G. Federal Awarding Contacts

USDA Rural Development State Office in the state where the applicant's project is located. Agency state office contact information is available at https://www.rd.usda.gov/about-rd/offices/state-offices.

H. Other Information

1. Civil Rights. Programs referenced in this Notice are subject to applicable Civil Rights Laws. These laws include the Equal Credit Opportunity Act, Title VI of the Civil Rights Act of 1964, Title VIII of the Civil Rights Act of 1968, as amended in 1988, and Section 504 of the Rehabilitation Act of 1973.

2. Non-Discrimination Statement. In accordance with Federal civil rights law and U.S. Department of Agriculture (USDA) civil rights regulations and policies, the USDA, its Agencies, offices, employees, and institutions participating in or administering USDA programs are prohibited from discriminating based on race, color, national origin, religion, sex, gender identity (including gender expression), sexual orientation, disability, age, marital status, familial/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at http://www.ascr.usda.gov/complaint_filing_cust.html and at any USDA office or write a letter addressed to USDA and provide in the letter all of the information requested in the form. To request a copy of the complaint form, call (866) 632-9992. Submit your completed form or letter to USDA by:

(1) Mail: U.S. Department of Agriculture, Office of the Assistant Secretary for Civil Rights, 1400 Independence Avenue SW, Washington, DC 20250-9410;

(2) Fax: (202) 690-7442; or

(3) Email: program.intake@usda.gov.

USDA is an equal opportunity provider, employer, and lender.

Bruce W. Lammers,
Administrator, Rural Housing Service.

[FR Doc. 2019-19552 Filed 9-9-19; 8:45 am]

BILLING CODE 3410-XV-P